DEPARTMENT OF ENERGY

Energy Information Administration

American Statistical Association Committee on Energy Statistics

AGENCY: Energy Information Administration, Department of Energy.

ACTION: Notice of open meeting.

SUMMARY: This notice announces a meeting of the American Statistical Association Committee on Energy Statistics, a utilized Federal Advisory Committee. The Federal Advisory Committee Act (Public Law 92-463, 86 Stat. 770) requires that public notice of these meetings be announced in the Federal Register.

DATE AND TIME: Thursday, April 19, 2001 8:30 a.m.-4:40 p.m.; Friday, April 20, 2001 8:30 a.m.-11:50 a.m.

PLACE: U. S. Department of Energy, 8th Floor Conference Center, 950 L'Enfant Plaza, S.W., Washington, DC 20585.

FOR FURTHER INFORMATION CONTACT: Mr. William I. Weinig, EI-70, Committee Liaison, Energy Information Administration, U.S. Department of Energy, Washington, DC 20585, Telephone: (202) 287-1709. Alternately, Mr. Weinig may be contacted by email at william.weinig@eia.doe.gov or by FAX at (202) 287-1705.

Purpose of Committee: To advise the Department of Energy, Energy Information Administration (EIA), on EIA technical statistical issues and to enable the EIA to benefit from the Committee's expertise concerning other energy-related statistical matters.

Tentative Agenda

Thursday, April 19, 2001

A. Opening Remarks by the Chair, Room 8015

B. Major Topics, Room 8015 (unless otherwise noted)

1. Opening Remarks by EIA's Acting Administrator

2. A Briefing: Progress on the International (MARKAL) Model Development

3. A Briefing: Analysis of Strategies for Reducing Multiple Emissions from Power Plants

4. How Does EIA Measure the Impact of Its Data?

5. Verifying an Electricity Model, Room 8021

6. Electricity 2002: New Data Forms and New Confidentiality Policy, Room 8022

7. Frequently Asked Questions About Survey Response Rates, Room 8022

8. Public Questions and Comments

9. Update and Results of Cognitive Testing of EIA Graphics, Room 8015

10. Interagency Project: Disclosure Auditing System

11. Monte Carlo Analysis of Uncertainty in Greenhouse Gas Emission Estimates: Carbon Dioxide Emissions from Energy and Industrial Sources in the U.S.

12. How to Develop “Emergency” Surveys: Suggestions for “Cutting Corners'

13. Public Questions and Comments

Friday, April 20, 2001

C. Major Topics, Room 8015

1. Knowledge Transfer as EIA Staff Ages and Turns Over

2. Measures of Data Quality for EIA Surveys

3. Possible Invited Papers at the Joint American Statistical Association Meetings in 2002

4. Public Questions and Comments

D. Closing Remarks by the Chair

Public Participation: The meeting is open to the public. The Chair of the Committee is empowered to conduct the meeting in a fashion that will facilitate the orderly conduct of business. Written statements may be filed with the committee either before or after the meeting. If there are any questions, please contact Mr. William I. Weinig, EIA Committee Liaison, at the address or telephone number listed above.

Minutes: Available for public review and copying at the Public Reading Room, (Room 1E-190), 1000 Independence Avenue, SW, Washington, DC 20585, (202) 586-3142, between the hours of 9 a.m. and 4 p.m., Monday through Friday.

Issued at Washington, DC on March 29, 2001.
Rachel M. Samuel,
Deputy Advisory Committee, Management Officer.

[FR Doc. 01-8106 Filed 4-2-01; 8:45 am]

BILLING CODE 6450-01-P